Title 3—

The President

Proclamation 10107 of October 30, 2020

To Modify Duty-Free Treatment Under the Generalized System of Preferences and for Other Purposes

By the President of the United States of America

A Proclamation

1. In Executive Order 11844 of March 24, 1975, the President designated Thailand as a beneficiary developing country for purposes of the Generalized System of Preferences (GSP) (19 U.S.C. 2461 et seq.).

2. Sections 502(d)(1) and 503(c)(1) of the Trade Act of 1974, as amended, (the “1974 Act”) (19 U.S.C. 2462(d)(1) and 2463(c)(1)) provide that the President may withdraw, suspend, or limit the application of the duty-free treatment accorded under the GSP with respect to any beneficiary developing country and any article upon consideration of the factors set forth in sections 501 and 502(c) of the 1974 Act (19 U.S.C. 2461 and 2462(c)).

3. Section 502(c)(4) of the 1974 Act (19 U.S.C. 2462(c)(4)) provides that, in determining whether to designate any country as a beneficiary developing country under the GSP, the President shall take into account the extent to which such country has assured the United States that it will provide equitable and reasonable access to the markets and basic commodity resources of such country and the extent to which such country has assured the United States that it will refrain from engaging in unreasonable export practices.

4. Pursuant to sections 502(d)(1) and 503(c)(1) of the 1974 Act, and having considered the factors set forth in sections 501 and 502(c), including in particular section 502(c)(4), I have determined that Thailand has not assured the United States that Thailand will provide equitable and reasonable access to its markets. Accordingly, it is appropriate to suspend the duty-free treatment accorded under the GSP to certain eligible articles that are the product of Thailand, effective on December 30, 2020.

5. Pursuant to section 503(c)(1) of the 1974 Act, the President may withdraw, suspend, or limit the application of the duty-free treatment accorded to specified articles under the GSP when imported from designated beneficiary developing countries.

6. Section 503(c)(2)(A) of the 1974 Act (19 U.S.C. 2463(c)(2)(A)) subjects beneficiary developing countries, except those designated as least-developed beneficiary developing countries or beneficiary sub-Saharan African countries as provided in section 503(c)(2)(D) of the 1974 Act (19 U.S.C. 2463(c)(2)(D)), to competitive need limitations on the duty-free treatment afforded to eligible articles under the GSP.

7. Pursuant to section 503(c)(2)(A) of the 1974 Act, I have determined that in 2019 certain beneficiary developing countries exported eligible articles in quantities exceeding the applicable competitive need limitations. I hereby terminate the duty-free treatment for such articles from such beneficiary developing countries.

8. Pursuant to section 503(c)(1) of the 1974 Act, and having considered the factors set forth in sections 501 and 502(c) of the 1974 Act, I have determined to withdraw the application of the duty-free treatment accorded to a certain article.

9. Pursuant to sections 501 and 503(a)(1)(A) of the 1974 Act (19 U.S.C. 2461 and 2463(a)(1)(A)), the President may, after receiving the advice of the United States International Trade Commission (the “Commission”), designate certain articles as eligible for preferential tariff treatment under the GSP when they are imported from designated beneficiary developing countries.

10. Pursuant to sections 501 and 503(a)(1)(A) of the 1974 Act, and having received advice from the Commission in accordance with section 503(e) of the 1974 Act (19 U.S.C. 2463(e)), I have determined to designate a certain article as an eligible article when it is imported from beneficiary developing countries.

11. Section 503(c)(2)(F)(i) of the 1974 Act (19 U.S.C. 2463(c)(2)(F)(i)) provides that the President may disregard the competitive need limitation provided in section 503(c)(2)(A)(i)(II) of the 1974 Act (19 U.S.C. 2463(c)(2)(A)(i)(II)) with respect to any eligible article from any beneficiary developing country if the aggregate appraised value of the imports of any such article into the United States during the preceding calendar year does not exceed the amount set forth in section 503(c)(2)(F)(ii) of the 1974 Act (19 U.S.C. 2463(c)(2)(F)(ii)).

12. Pursuant to section 503(c)(2)(F)(i) of the 1974 Act, I have determined that the competitive need limitation provided in section 503(c)(2)(A)(i)(II) of the 1974 Act should be disregarded with respect to certain eligible articles from certain beneficiary developing countries.

13. The short-form name of “Macedonia” has changed to “North Macedonia,” and I have determined that additional U.S. note 6 to Chapter 20 of the Harmonized Tariff Schedule of the United States (HTS) should be modified to reflect this change.

14. Section 604 of the 1974 Act (19 U.S.C. 2483) authorizes the President to embody in the HTS the substance of the relevant provisions of the 1974 Act, and of other Acts affecting import treatment, and actions thereunder, including removal, modification, continuance, or imposition of any rate of duty or other import restriction.

NOW, THEREFORE, I, DONALD J. TRUMP, President of the United States of America, acting under the authority vested in me by the Constitution and the laws of the United States of America, including title V and section 604 of the 1974 Act, do hereby proclaim that:

(1) The duty-free treatment accorded under the GSP to certain eligible articles that are the product of Thailand is suspended, effective on December 30, 2020.

(2) In order to reflect in the HTS this suspension of certain benefits under the GSP with respect to Thailand, general note 4(d) and pertinent subheadings of the HTS are modified as set forth in Annex I to this proclamation.

(3) In order to provide that one or more countries should no longer be treated as beneficiary developing countries with respect to one or more eligible articles for purposes of the GSP, the Rates of Duty 1-Special subcolumn for the corresponding HTS subheadings and general note 4(d) to the HTS are modified as set forth in sections A, B, and C of Annex II to this proclamation.

(4) In order to withdraw the application of duty-free treatment accorded to one eligible article for purposes of the GSP, the Rates of Duty 1-Special subcolumn for the corresponding HTS subheading is modified as set forth in section D of Annex II to this proclamation.

(5) In order to designate a certain article as an eligible article when imported from a beneficiary developing country for purposes of the GSP, the Rates of Duty 1-Special column for the corresponding HTS subheading is modified as set forth in section E of Annex II to this proclamation.

(6) The competitive need limitation provided in section 503(c)(2)(A)(i)(II) of the 1974 Act is disregarded with respect to the eligible articles in the HTS subheadings and to the beneficiary developing countries set forth in Annex III to this proclamation.

(7) In order to reflect the change in the name of Macedonia, U.S. note 6 to chapter 20 of the HTS is modified by deleting “Macedonia” and inserting “North Macedonia” in alphabetical order.

(8) The modifications to the HTS set forth in Annex II and Annex III of this proclamation shall be effective with respect to articles entered for consumption, or withdrawn from warehouse for consumption, on or after 12:01 a.m. eastern daylight time on November 1, 2020.

(9) Any provisions of previous proclamations and Executive Orders that are inconsistent with the actions taken in this proclamation are superseded to the extent of such inconsistency.

IN WITNESS WHEREOF, I have hereunto set my hand this thirtieth day of October, in the year of our Lord two thousand twenty, and of the Independence of the United States of America the two hundred and forty-fifth.

Billing code 3295-F2-P

[FR Doc. 2020-24589

Filed 11-3-20; 8:45 am]

Billing code 7020-02-C